DEPARTMENT OF COMMERCE

International Trade Administration

[A-570-117]

Wood Mouldings and Millwork Products From the People's Republic of China: Amended Final Antidumping Duty Determination and Antidumping Duty Order

AGENCY: Enforcement and Compliance, International Trade Administration, Department of Commerce.

SUMMARY: Based on affirmative final determinations by the Department of Commerce (Commerce) and the International Trade Commission (ITC), Commerce is issuing an antidumping duty order on wood mouldings and millwork products (millwork products) from the People's Republic of China (China). In addition, Commerce is amending its final affirmative determination.

DATES: Applicable February 16, 2021.

FOR FURTHER INFORMATION CONTACT: Brian Smith or Samuel Glickstein, AD/CVD Operations, Enforcement and Compliance, International Trade Administration, U.S. Department of Commerce, 1401 Constitution Avenue NW, Washington, DC 20230; telephone: (202) 482-1766 or (202) 482-5307, respectively.

SUPPLEMENTARY INFORMATION:

Background

On January 4, 2021, Commerce published its affirmative Final Determination in the less-than-fair-value (LTFV) investigation of millwork products from China.¹ On January 5, 2021, Commerce received a ministerial error allegation with respect to its Final Determination.² See the “Amendment to Final Determination” section of this notice for further discussion. On February 10, 2021, the ITC notified Commerce of its final determination, pursuant to section 735(d) of the Tariff Act of 1930, as amended (the Act), that an industry in the United States is materially injured within the meaning of section 735(b)(1)(A)(i) of the Act by reason of LTFV imports of millwork products from China.³

¹ See Wood Mouldings and Millwork Products from the People's Republic of China: Final Determination of Sales at Less Than Fair Value, 86 FR 63 (January 4, 2021) (Final Determination).

² See Coalition of American Millwork Producers' Letter, “Wood Mouldings and Millwork Products from the People's Republic of China: Ministerial Error Comments,” dated January 5, 2021.

³ See ITC Notification Letter, Investigations, Inv. Nos. 701-TA-636 and 731-TA-1470 (Final) (February 10, 2021) (ITC Notification Letter).

Scope of the Order

The products covered by this order are millwork products from China. For a complete description of the scope of this order, see the appendix to this notice.

Amendment to Final Determination

A ministerial error is defined as an error in addition, subtraction, or other arithmetic function, clerical error resulting from inaccurate copying, duplication, or the like, and any other similar type of unintentional error which the Secretary considers ministerial.⁴ Pursuant to section 735(e) of the Act and 19 CFR 351.224(e) and (f), Commerce is amending the Final Determination to reflect the correction of a ministerial error in the final estimated weighted-average dumping margin calculated for Fujian Yinfeng Imp & Exp Trading Co., Ltd./Fujian Province Youxi City Mangrove Wood Machining Co., Ltd. (Yinfeng/Mangrove).⁵ In addition, because Yinfeng/Mangrove's estimated weighted-average dumping margin is the basis for the estimated weighted-average dumping margins for 42 non-selected separate rate companies, and its highest transaction margin is the basis for the estimated weighted-average dumping margin determined for the China-wide entity, we are also revising the estimated weighted-average dumping margins for the separate rate companies and the China-wide entity rate in the Final Determination.⁶

⁴ See section 735(e) of the Act; see also 19 CFR 351.224(f).

⁵ See Memorandum, “Final Determination of Sales at Less-Than-Fair-Value: Wood Mouldings and Millwork Products from the People's Republic of China: Ministerial Error Allegations,” dated January 11, 2021 (Ministerial Error Memorandum).

⁶ See infra, section on “Estimated Weighted-Average Dumping Margins”; see also Ministerial Error Memorandum.

Antidumping Duty Order

On February 10, 2021, in accordance with section 735(d) of the Act, the ITC notified Commerce of its final determination in this investigation, in which it found that an industry in the United States is materially injured by reason of imports of millwork products from China.⁷ In accordance with section 735(c)(2) of the Act, Commerce is issuing this antidumping duty order. Because the ITC determined that imports of millwork products from China are materially injuring a U.S. industry, unliquidated entries of such merchandise from China, entered or withdrawn from warehouse for consumption, are subject to the assessment of antidumping duties.

⁷ See ITC Notification Letter.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of millwork products from China. With the exception of entries occurring after the expiration of the provisional measures period and before publication of the ITC's final affirmative injury determinations, as further described below, antidumping duties will be assessed on unliquidated entries of millwork products from China entered, or withdrawn from warehouse, for consumption, on or after August 12, 2020, the date of publication of the Preliminary Determination.⁸

⁸ See Wood Mouldings and Millwork Products from the People's Republic of China: Preliminary Affirmative Determination of Sales at Less Than Fair Value, Postponement of Final Determination, and Extension of Provisional Measures, 85 FR 48669 (August 12, 2020) (Preliminary Determination).

Continuation of Suspension of Liquidation

Except as noted in the “Provisional Measures” section of this notice, in accordance with section 735(c)(1)(B) of the Act, Commerce will instruct CBP to continue to suspend liquidation on all relevant entries of millwork products from China. These instructions suspending liquidation will remain in effect until further notice.

Commerce will also instruct CBP to require cash deposits equal to the estimated weighted-average dumping margins indicated in the table below, adjusted by the export subsidy offset. Given that the provisional measures period has expired, as explained below, effective on the date of publication in the Federal Register of the notice of the ITC's final affirmative injury determination, CBP must require, at the same time as importers would deposit estimated normal customs duties on this merchandise, a cash deposit equal to the rates noted below.⁹

⁹ See section 736(a)(3) of the Act.

The China-wide entity rate applies to all exporter-producer combinations not specifically listed.

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of millwork products from China, Commerce extended the four-month period to six months in this investigation. Commerce published the Preliminary Determination in this investigation on August 12, 2020.¹⁰

¹⁰ See Preliminary Determination.

The extended provisional measures period, beginning on the date of publication of the Preliminary Determination, ended on February 8, 2021. Therefore, in accordance with section 733(d) of the Act and our practice,¹¹ Commerce will instruct CBP to terminate the suspension of liquidation and to liquidate, without regard to antidumping duties, unliquidated entries of millwork products from China entered, or withdrawn from warehouse, for consumption after February 8, 2021, the final day on which the provisional measures were in effect, until and through the day preceding the date of publication of the ITC's final affirmative injury determination in the Federal Register. Suspension of liquidation and the collection of cash deposits will resume on the date of publication of the ITC's final determination in the Federal Register.

¹¹ See, e.g., Certain Corrosion-Resistant Steel Products from India, Italy, the People's Republic of China, the Republic of Korea and Taiwan: Amended Final Affirmative Antidumping Determination for India and Taiwan, and Antidumping Duty Orders, 81 FR 48390, 48392 (July 25, 2016).

Estimated Weighted-Average Dumping Margins

The estimated weighted-average dumping margins are as follows:

Exporter | Producer | Estimated weighted- average dumping margin (percent) | Cash deposit rate (adjusted for subsidy offsets) (percent)
Fujian Yinfeng Imp & Exp Trading Co., Ltd./Fujian Province Youxi City Mangrove Wood Machining Co., Ltd | Fujian Yinfeng Imp & Exp Trading Co., Ltd./Fujian Province Youxi City Mangrove Wood Machining Co., Ltd | 45.49 | 34.76
Anji Golden Elephant Bamboo Wooden Industry Co., Ltd | Anji Golden Elephant Bamboo Wooden Industry Co., Ltd | 45.49 | 34.76
Anji Huaxin Bamboo & Wood Products Co., Ltd | Anji Huaxin Bamboo & Wood Products Co., Ltd | 45.49 | 34.76
Cao County Hengda Wood Products Co., Ltd | Cao County Hengda Wood Products Co., Ltd | 45.49 | 34.76
Evermark (Yantai) Co., Ltd | Evermark (Yantai) Co., Ltd | 45.49 | 34.76
Fujian Hongjia Craft Products Co., Ltd | Fujian Hongjia Craft Products Co., Ltd | 45.49 | 34.76
Fujian Jinquan Trade Co., Ltd | Fujian Province Youxi County Baiyuan Wood Machining Co., Ltd | 45.49 | 34.76
Fujian Nanping Yuanqiao Wood Industry Co., Ltd | Fujian Nanping Yuanqiao Wood Industry Co., Ltd | 45.49 | 34.76
Fujian Province Youxi County Chang Sheng Wood Machining Co., Ltd | Fujian Province Youxi County Chang Sheng Wood Machining Co., Ltd | 45.49 | 34.76
Fujian Sanming City Donglai Wood Co., Ltd | Fujian Sanming City Donglai Wood Co., Ltd | 45.49 | 34.76
Fujian Shunchang Shengsheng Wood Industry Limited Company | Fujian Shunchang Shengsheng Wood Industry Limited Company | 45.49 | 34.76
Fujian Wangbin Decorative Material Co., Ltd | Fujian Wangbin Decorative Material Co., Ltd | 45.49 | 34.76
Fujian Youxi Best Arts & Crafts Co., Ltd | Fujian Ruisen International Industrial Co., Ltd | 45.49 | 34.76
Fujian Zhangping Kimura Forestry Products Co., Ltd | Fujian Zhangping Kimura Forestry Products Co., Ltd | 45.49 | 34.76
Heze Huasheng Wooden Co., Ltd | Heze Huasheng Wooden Co., Ltd | 45.49 | 34.76
Huaan Longda Wood Industry Co., Ltd | Huaan Longda Wood Industry Co., Ltd | 45.49 | 34.76
Jiangsu Chen Sheng Forestry Development Co., Ltd | Jiangsu Chen Sheng Forestry Development Co., Ltd | 45.49 | 34.76
Jiangsu Wenfeng Wood Co., Ltd | Jiangsu Wenfeng Wood Co., Ltd | 45.49 | 34.76
Lanzhou Xinyoulian Industrial Co., Ltd | Lanzhou Xinyoulian Industrial Co., Ltd | 45.49 | 34.76
Lianyungang Tianke New Energy Technology Co., Ltd | Lianyungang Tianke New Energy Technology Co., Ltd | 45.49 | 34.76
Longquan Jiefeng Trade Co., Ltd | Zhejiang Senya Board Industry Co., Ltd | 45.49 | 34.76
Nanping Huatai Wood & Bamboo Co., Ltd | Nanping Huatai Wood & Bamboo Co., Ltd | 45.49 | 34.76
Nanping Qiangmei Import & Export Co., Ltd | Pucheng County Qiangmei Wood Company, Ltd | 45.49 | 34.76
Oppein Home Group Inc | Oppein Home Group Inc | 45.49 | 34.76
Putian Yihong Wood Industry Co., Ltd | Putian Yihong Wood Industry Co., Ltd | 45.49 | 34.76
Qimen Jianxing Bamboo and Wood Goods Co., Ltd | Qimen Jianxing Bamboo and Wood Goods Co., Ltd | 45.49 | 34.76
Qingdao Sanhe Dacheng International Trade Co., Ltd | Yongan Tenlong Bamboo & Wood Products Co., Ltd | 45.49 | 34.76
Rizhao Duli Trade Co., Ltd | Rizhao Jiayue Industry & Trading Co., Ltd | 45.49 | 34.76
Rizhao Guantong Woodworking Co., Ltd | Shouguang Luli Wood Industry Co., Ltd./Rizhao Forest International Trading Co., Ltd./Xiamen Oubai Industry & Trade Co., Ltd | 45.49 | 34.76
Sanming Lingtong Trading Co., Ltd | Sanming Shitong Wood Industry Co., Ltd | 45.49 | 34.76
Shandong Miting Household Co., Ltd | Shandong Jicheng Decorative Material Co., Ltd | 45.49 | 34.76
Shaxian Hengtong Wood Industry Co., Ltd | Shaxian Hengtong Wood Industry Co., Ltd | 45.49 | 34.76
Shaxian Shiyiwood, Ltd | Shaxian Shiyiwood, Ltd | 45.49 | 34.76
Shuyang Kevin International Co., Ltd | Shuyang Zhongding Decoration Materials Co., Ltd | 45.49 | 34.76
Suqian Sulu Import & Export Trading Co., Ltd | Suqian Sulu Import & Export Trading Co., Ltd | 45.49 | 34.76
The Ancientree Cabinet Co., Ltd | The Ancientree Cabinet Co., Ltd | 45.49 | 34.76
Xiamen Jinxi Building Material Co., Ltd | Zhangzhou City Jinxi Building Material Co., Ltd | 45.49 | 34.76
Xuzhou Goodwill Resource Co., Ltd | Pucheng County Qiangmei Wood Company, Ltd./Lianyungang Tianke New Energy Technology Co., Ltd./Fujian Sanming City Donglai Wood Co., Ltd./Zhangzhou Fukangyuan Industry and Trade Co., Ltd | 45.49 | 34.76
Xuzhou Hexi Wood Co., Ltd | Xuzhou Hexi Wood Co., Ltd | 45.49 | 34.76
Zhangping San Chuan Industrial & Trade Co., Ltd | Zhangping San Chuan Industrial & Trade Co., Ltd | 45.49 | 34.76
Zhangzhou Green Wood Industry and Trade Co., Ltd | Zhangzhou Green Wood Industry and Trade Co., Ltd | 45.49 | 34.76
Zhangzhou Wangjiamei Industry and Trade Co., Ltd | Zhangzhou Wangjiamei Industry and Trade Co., Ltd | 45.49 | 34.76
Zhangzhou Yihong Industrial Co., Ltd | Zhangzhou Yihong Industrial Co., Ltd | 45.49 | 34.76
China-Wide Entity |  | 231.60 | 220.87

Notification to Interested Parties

This notice constitutes the antidumping duty order with respect to millwork products from China pursuant to section 736(a) of the Act. Interested parties can find a list of antidumping duty orders currently in effect at http://enforcement.trade.gov/stats/iastats1.html.

This amended final determination and antidumping duty order are published in accordance with sections 735(e) and 736(a) of the Act and 19 CFR 351.224(e) and 19 CFR 351.211(b).

Dated: February 10, 2021.
Christian Marsh,
Acting Assistant Secretary for Enforcement and Compliance.

Appendix—Scope of the Order

The merchandise subject to this order consists of wood mouldings and millwork products that are made of wood (regardless of wood species), bamboo, laminated veneer lumber (LVL), or of wood and composite materials (where the composite materials make up less than 50 percent of the total merchandise), and which are continuously shaped wood or finger-jointed or edge-glued moulding or millwork blanks (whether or not resawn). The merchandise subject to this order can be continuously shaped along any of its edges, ends, or faces.

The percentage of composite materials contained in a wood moulding or millwork product is measured by length, except when the composite material is a coating or cladding. Wood mouldings and millwork products that are coated or clad, even along their entire length, with a composite material, but that are otherwise comprised of wood, LVL, or wood and composite materials (where the non-coating composite materials make up 50 percent or less of the total merchandise) are covered by the scope.

The merchandise subject to this order consists of wood, LVL, bamboo, or a combination of wood and composite materials that is continuously shaped throughout its length (with the exception of any endwork/dados), profiled wood having a repetitive design in relief, similar milled wood architectural accessories, such as rosettes and plinth blocks, and finger-jointed or edge-glued moulding or millwork blanks (whether or not resawn). The scope includes continuously shaped wood in the forms of dowels, building components such as interior paneling and jamb parts, and door components such as rails, stiles, interior and exterior door frames or jambs (including split, flat, stop applied, single- or double-rabbeted), frame or jamb kits, and packaged door frame trim or casing sets, whether or not the door components are imported as part of a door kit or set.

The covered products may be solid wood, laminated, finger-jointed, edge-glued, face-glued, or otherwise joined in the production or remanufacturing process and are covered by the scope whether imported raw, coated (e.g., gesso, polymer, or plastic), primed, painted, stained, wrapped (paper or vinyl overlay), any combination of the aforementioned surface coatings, treated, or which incorporate rot-resistant elements (whether wood or composite). The covered products are covered by the scope whether or not any surface coating(s) or covers obscure the grain, textures, or markings of the wood, whether or not they are ready for use or require final machining (e.g., endwork/dado, hinge/strike machining, weatherstrip or application thereof, mitre) or packaging.

All wood mouldings and millwork products are included within the scope even if they are trimmed; cut-to-size; notched; punched; drilled; or have undergone other forms of minor processing.

Subject merchandise also includes wood mouldings and millwork products that have been further processed in a third country, including but not limited to trimming, cutting, notching, punching, drilling, coating, or any other processing that would not otherwise remove the merchandise from the scope of this order if performed in the country of manufacture of the in-scope product.

Excluded from the scope of this order are countertop/butcherblocks imported as a full countertop/butcherblock panel, exterior fencing, exterior decking and exterior siding products (including solid wood siding, non-wood siding (e.g., composite or cement), and shingles) that are not LVL or finger jointed; finished and unfinished doors; flooring; parts of stair steps (including newel posts, balusters, easing, gooseneck, risers, treads, rail fittings and stair stringers); picture frame components three feet and under in individual lengths; and lumber whether solid, finger-jointed, or edge-glued. To be excluded from the scope, finger-jointed or edge-glued lumber must have a nominal thickness of 1.5 inches or greater and a certification stamp from an American Lumber Standard Committee-certified grading agency. The exclusion for lumber whether solid, finger-jointed, or edge-glued does not apply to screen/”surfaced on 4 sides” (S4S) and/or “surface 1 side, 2 edges” (SlS2E) stock (also called boards) that are finger-jointed and/or edge-glued, or to finger-jointed and/or edge-glued moulding or millwork blanks (whether or not resawn). Accordingly, S4S and S1S2E stock/boards that are not finger-jointed or edge glued are excluded from the scope of this order.

Excluded from the scope of this order are all products covered by the scope of the antidumping duty order on Hardwood Plywood from the People's Republic of China. See Certain Hardwood Plywood Products from the People's Republic of China: Amended Final Determination of Sales at Less Than Fair Value, and Antidumping Duty Order, 83 FR 504 (January 4, 2018).

Excluded from the scope of this order are all products covered by the scope of the antidumping duty order on Multilayered Wood Flooring from the People's Republic of China. See Multilayered Wood Flooring from the People's Republic of China: Amended Final Determination of Sales at Less Than Fair Value and Antidumping Duty Order, 76 FR 76690 (December 8, 2011).

Excluded from the scope of this order are all products covered by the scope of the antidumping duty order on Wooden Cabinets and Vanities from the People's Republic of China. See Wooden Cabinets and Vanities and Components Thereof from the People's Republic of China: Antidumping Duty Order, 85 FR 22126 (April 21, 2020).

Excluded from the scope of this order are all products covered by the scope of the antidumping duty order on Wooden Bedroom Furniture from the People's Republic of China. See Notice of Amended Final Determination of Sales at Less Than Fair Value and Antidumping Duty Order: Wooden Bedroom Furniture from the People's Republic of China, 70 FR 329 (January 4, 2005).

Imports of wood mouldings and millwork products are primarily entered under the following Harmonized Tariff Schedule of the United States (HTSUS) numbers: 4409.10.4010, 4409.10.4090, 4409.10.4500, 4409.10.5000, 4409.22.4000, 4409.22.5000,4409.29.4100, and 4409.29.5100. Imports of wood mouldings and millwork products may also enter under HTSUS numbers: 4409.10.6000,4409.10.6500, 4409.22.6000, 4409.22.6500, 4409.29.6100, 4409.29.6600, 4418.20.4000, 4418.20.8030, 4418.20.8060, 4418.99.9095 and 4421.99.9780. While the HTSUS subheadings are provided for convenience and customs purposes, the written description of the scope of the order is dispositive.

[FR Doc. 2021-03151 Filed 2-12-21; 8:45 am]

BILLING CODE 3510-DS-P